DEPARTMENT OF TRANSPORTATION

Federal Aviation Administration

14 CFR Part 71

[Docket No. FAA-2011-0252; Airspace Docket No. 11-ANM-5]

Proposed Modification of Class E Airspace; Newcastle, WY

Correction

In proposed rule document 2011-8743 appearing on pages 20281-20282 in the issue of Tuesday, April 12, 2011, make the following correction:

§ 71.1 [Corrected]

On page 20282, in the second column, on the 14th line from the bottom of the page, “700 feet” should read “7,000 feet”.

[FR Doc. C1-2011-8743 Filed 5-17-11; 8:45 am]

BILLING CODE 1505-01-D